DEPARTMENT OF COMMERCE

International Trade Administration

Environmental Technologies Trade Advisory Committee (ETTAC) Public Meeting

AGENCY: International Trade Administration, DOC.

ACTION: Notice of an Open Meeting of a Federal Advisory Committee.

SUMMARY: This notice sets forth the schedule and proposed agenda of a meeting of the Environmental Technologies Trade Advisory Committee (ETTAC).

DATES: The teleconference is scheduled for Thursday, March 7, 2019, at 2:30 p.m. Eastern Daylight Time (EDT). The deadline for members of the public to register or to submit written comments for dissemination prior to the teleconference is 5:00 p.m. EDT on Thursday, February 28, 2019. The deadline for members of the public to request auxiliary aids is 5:00 p.m. EDT on Tuesday, February 26, 2019.

ADDRESSES: The meeting will take place via teleconference. For logistical reasons, all participants are required to register in advance by the date specified above. Please contact Ms. Amy Kreps at the contact information below to register and obtain call-in information.

FOR FURTHER INFORMATION CONTACT: Ms. Amy Kreps, Office of Energy & Environmental Industries (OEEI), International Trade Administration, Room 28018, 1401 Constitution Avenue NW, Washington, DC 20230 (Phone: 202-482-3835; Fax: 202-482-5665; email: amy.kreps@trade.gov)

SUPPLEMENTARY INFORMATION: The teleconference will take place on March 7, 2019, from 2:30 p.m. to 4:30 p.m. EDT. The general meeting is open to the public, and time will be permitted for public comment from 4:15-4:30 p.m. EDT. Members of the public seeking to attend the teleconference are required to register in advance. Those interested in attending must provide notification by Thursday, February 28, 2019, at 5:00 p.m. EDT, via the contact information provided above. This meeting is physically accessible to people with disabilities. Requests for auxiliary aids should be directed to OEEI at (202) 482-3835 no less than one week prior to the teleconference. Requests received after this date will be accepted, but it may not be possible to accommodate them.

Written comments concerning ETTAC affairs are welcome any time before or after the meeting. To be considered during the meeting, written comments must be received by Tuesday, February 26, 2019, at 5:00 p.m. EDT to ensure transmission to the members before the teleconference. Minutes will be available within 30 days of this meeting.

Topic to be considered: The agenda for the March 7, 2019, meeting includes providing the newly re-chartered committee with briefings on Federal Advisory Committee Act (FACA) requirements and an overview of ETTAC operations. OEEI will make the final agenda available to the public one week prior to the meeting. Please email amy.kreps@trade.gov or contact 202-482-3835 for a copy.

Background: The ETTAC is mandated by Section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was most recently re-chartered until August 2020.

Dated: February 13, 2019.
Man Cho,
Deputy Director, Office of Energy and Environmental Industries.

[FR Doc. 2019-02674 Filed 2-15-19; 8:45 am]

BILLING CODE 3510-DR-P